FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 14, 2014.

A. Federal Reserve Bank of Atlanta (Chapelle Davis, Assistant Vice President) 1000 Peachtree Street NE., Atlanta, Georgia 30309:

1. J. C. Jones, Jr.; Carole Jones; Patrick C. Jones, all of Blackshear, Georgia; J. C. Jones, III; 2012 Patrick C. Jones Irrevocable Trust; JCJ Irrevocable Trust; and The Jones Company, all of Waycross, Georgia; to retain voting shares of Jones Bancshares LP, and thereby indirectly retain voting shares of PrimeSouth Bancshares, both in Waycross, Georgia, and PrimeSouth Bank, Blackshear, Georgia.

Board of Governors of the Federal Reserve System, July 25, 2014.
Margaret McCloskey Shanks,
Deputy Secretary of the Board.

[FR Doc. 2014-17906 Filed 7-29-14; 8:45 am]

BILLING CODE 6210-01-P